DEPARTMENT OF TRANSPORTATION

Federal Highway Administration

Environmental Impact Statement; Sacramento, CA

AGENCY: Federal Highway Administration (FHWA), DOT.

ACTION: Notice of intent.

SUMMARY: The FHWA is issuing this notice to advise the public that an environmental impact statement will be prepared for a proposed highway project in Sacramento, California.

FOR FURTHER INFORMATION CONTACT: Maiser Khaled, Federal Highway Administration, 980 Ninth Street, Suite 400, Sacramento, CA 95814-2724.

SUPPLEMENTARY INFORMATION: The FHWA, in cooperation with the California Department of Transportation, will prepare an environmental impact statement (EIS) on a proposal to analyze the effect of constructing the Interstate 5 (I-5)/Cosumnes River Boulevard interchange and extension of Cosumnes River Boulevard to Franklin Boulevard. The project is located in the southwest portion of the City of Sacramento.

The project is to extend Cosumnes River Boulevard from its current westerly terminus at Franklin Boulevard to an interchange with I-5 and potentially further west to Freeport Boulevard (State Route 160). Alternative under consideration include (1) taking no action, (2) constructing Cosumnes River Boulevard from Franklin Boulevard west to I-5 with an interchange at I-5, and (3) constructing Cosumnes River Boulevard from Franklin Boulevard west across I-5 toward the Sacramento River to Freeport Boulevard with an interchange at I-5. Two alternative alignments are proposed for the Cosumnes River Boulevard connection between Franklin Boulevard and the proposed I-5 interchange.

Based on preliminary design information, the two build alternatives would have identical impacts on wetlands and special-status species. Mitigation would be required for both build alternatives. Mitigation opportunities are available within the study area and in the region.

Letters describing the proposed action and soliciting comments will be sent to appropriate federal, state, and local agencies and to private organization and citizens who have previously expressed or are known to have interest in this proposal. A public scoping meeting will be held in Sacramento from 4 p.m. to 7 p.m. on Tuesday, February 26, 2002, to obtain comments on environmental issues of concern. The meeting will take place in Conference Room A of the Pannell Meadowview Center, which is located at 2450 Meadowview Road, Sacramento, California.

Representatives from Caltrans, the City of Sacramento, the Design Engineer, and the Environmental Consultant will be present to discuss the proposed action and environmental concerns. Additionally, a public hearing will be held when the draft EIS is released. Public notice will be given of the time and place of the hearing. The draft EIS will be available for public and agency review and comment prior to the public hearing.

To ensure that the full range of issues related to this proposed action are addressed and all significant issues identified, comments and suggestions are invited from all interested parties. Comments or questions concerning the proposed action should be directed to the FHWA at the address provided above.

(Catalog of Federal Domestic Assistance Program Number 20.205, Highway Planning and Construction. The regulations implementing Executive Order 12372 regarding intergovernmental consultation on federal programs and activities apply to the program.)
Issued on: February 5, 2002.
Maiser Khaled,
Chief, District Operations—North.

[FR Doc. 02-3173 Filed 2-8-02; 8:45 am]

BILLING CODE 4910-22-M